SMALL BUSINESS ADMINISTRATION

Quarterly Public Meeting of National Women's Business Council

AGENCY: National Women's Business Council, Small Business Administration.

ACTION: Notice of open public meeting.

DATES: The meeting will be held on December 8th, 2014 from 2:00 p.m. to 4:00 p.m. EST.

ADDRESSES: The meeting will take place virtually via a livestream and teleconference.

SUPPLEMENTARY INFORMATION: Pursuant to section 10(a)(2) of the Federal Advisory Committee Act (5 U.S.C., Appendix 2), the U.S. Small Business Administration (SBA) announces the meeting of the National Women's Business Council. The National Women's Business Council is tasked with providing policy recommendations on issues of importance and impact to women entrepreneurs to the SBA, Congress, and the White House.

The business portion will include remarks from the Council Chair, Carla Harris; an update from each of the NWBC committees; and a preview of the formal recommendations the Council is making to the SBA, Congress, and the White House for improving the business climate for women entrepreneurs, as well as the Council's FY2015 agenda. The second half of the program will include a panel discussion related to the Council's Job Creation and Growth body of work. The panel will feature women entrepreneurs who have successfully scaled their businesses and can speak to the strategies and factors that led to their growth.

FOR FURTHER INFORMATION CONTACT: The meeting is open to the general public; however advance notice of attendance is requested. To RSVP and confirm participation, the general public should use the following link: http://bit.ly/nwbcmtg128. Anyone wishing to make a presentation to the NWBC at this meeting must either email their interest to info@nwbc.gov or call the main office number at 202-205-3850.

For more information, please visit the National Women's Business Council Web site at www.nwbc.gov.

Dated: November 7, 2014.
Diana Doukas,
SBA Committee Management Officer.

[FR Doc. 2014-27176 Filed 11-14-14; 8:45 am]

BILLING CODE 8025-01-P